DEPARTMENT OF COMMERCE

National Oceanic and Atmospheric Administration

50 CFR Part 600

[I.D. 071601B]

Magnuson-Stevens Act Provisions; General Provisions for Domestic Fisheries; Application for Exempted Fishing Permit (EFP)

AGENCY: National Marine Fisheries Service (NMFS), National Oceanic and Atmospheric Administration (NOAA), Commerce.

ACTION: Notification of a proposal for an EFP to conduct experimental fishing; request for comments.

SUMMARY: The Administrator, Northeast Region, NMFS (Regional Administrator) has made a preliminary determination that an application for an EFP contains all of the required information and warrants further consideration. The Regional Administrator has also made a preliminary determination that the activities authorized under the EFP would be consistent with the goals and objectives of the Northeast Multispecies Fishery Management Plan (FMP), and that the cumulative impacts would be within the scope of earlier analyses on the FMP. However, further review and consultation may be necessary before a final determination is made to issue an EFP. Therefore, NMFS announces that the Regional Administrator proposes to issue an EFP in response to the application that would allow for exemptions of net mesh size and Days-at-Sea (DAS) requirements of the FMP in order to compare the selectivity of a standard commercial trawl net with that of a trawl net with a finfish excluder device. The objective is to develop a trawl with a reduced bycatch of regulated multispecies.

DATES: Comments must be received on or before August 13, 2001.

ADDRESSES: Written comments should be sent to Patricia A. Kurkul, Regional Administrator, NMFS, Northeast Regional Office, 1 Blackburn Drive, Gloucester, MA 01930. Mark the outside of the envelope “Comments on EFP Proposal.” Comments may also be sent via facsimile (fax) to (978) 281-9135.

FOR FURTHER INFORMATION CONTACT: Walter J. Gardiner, Fishery Management Specialist, (978) 281-9326.

SUPPLEMENTARY INFORMATION: The University of New Hampshire (UNH) submitted an application for an EFP on June 1, 2001. The EFP would allow the applicant to perform gear research in order to develop a trawl design that would reduce the bycatch of regulated multispecies, particularly Atlantic cod and juvenile flatfish.

This proposal builds upon previous research and intends to develop flatfish trawl designs based upon the different catch selectivities of gear for flatfish and roundfish (as a result of their different body shapes and behaviors) A component of the experiment will include video recording of the gear performance under tow to assess gear interactions with fish and habitat.

The experiment would occur within a portion of the Gulf of Maine/Georges Bank Regulated Mesh Area (GOM/GB RMA), well within the Northern Shrimp Small Mesh Exemption Area -- specifically, the Bank Confort area and the Jordan Basin, which is approximately north of 43°40′ N. lat. and between 67°30′ and 68°30′ W. long. The experimental fishing area would not include any closed areas during the time of the research (August 15 through October 15, 2001).

The experiment proposes to compare the following two trawl net configurations: (1) Standard diamond and square codend mesh sizes, which will be the control; and (2) standard net with two grated grid finfish excluder devices. The first grate is angled at 25 degrees and has horizontal bar spacings of 50 mm or 2 inches; the second grate, angled at 65 degrees, has vertical bar spacings of 90 mm or 3.5 inches and is designed to allow for the escape of Atlantic cod. Both grated grids will be covered with a small mesh bag to determine the effectiveness of the bycatch reduction devices.

The project would last for 2 years. Project participants would: (1) Design a double grid system based on differences in the behavior and shape between roundfish and flatfish; (2) test the design in a flume tank to verify design specifications and operational parameters; (3) build a prototype net with the selectivity device and test it in the sea using the standard (commercial) flatfish trawl as a control; (4) after the first year of sea trials, modify the grid based on the results; and (5) organize a Northwest Atlantic groundfish selectivity workshop to communicate the results from this project.

The sea trials would require between 152 and 168 hours of towing during the testing phase of the initial gear: 7 days of towing with two or three 2-hour tows per day per trip (four trips total). Projected landings from the trawls are expected to be 400 to 500 lb (181.44 to 226.8 kg) per day of Atlantic cod, flounder, monkfish, hake, pollock, and haddock combined; the total catch is estimated to be between 11,000 lb. (4,989.5 kg) and 14,000 lb. (6350.3 kg). These catch levels are approximately the same as the possession/landing limits for vessels fishing within the GOM/GB RMA. Thus, the experimental gear trials are expected to have very little incremental impact on the fishery resources. The vessel would be allowed to retain Atlantic cod, flounder, haddock, monkfish, hake, and pollock for commercial sale, up to the applicable Federal landing limits during the sea trial testing phase.

During the sea trial trips, UNH would have an observer on board and the catch (retained in the external bag and codend) would be measured according to standard fish sampling methodology and recorded for use by UNH personnel. Any sub-legal sized fish would be processed by the UNH observer (e.g., measured) and returned immediately to the water.

The applicant intends that the results of this gear work will be the basis for a gear modification request to the New England Fishery Management Council for use in the Northeast Multispecies fishery.

An EFP would be issued to exempt one vessel from the DAS requirements and gear restrictions of the FMP found at 50 CFR part 648, subpart F.

Regulations under the Magnuson-Stevens Fishery Conservation and Management Act require publication of this notification to provide interested parties the opportunity to comment on applications for proposed EFPs. Based on the results of this EFP, this action may lead to future rulemaking.

Authority: 16 U.S.C. 1801 et seq.

Dated: July 20, 2001.
Bruce C. Morehead,
Acting Director, Office of Sustainable Fisheries,National Marine Fisheries Service.

[FR Doc. 01-18699 Filed 7-26-01; 8:45 am]

BILLING CODE 3510-22-S